DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons and vessels that have been placed on OFAC's Specially Designated Nationals and Blocked Persons List based on OFAC's determination that one or more applicable legal criteria were satisfied. All property and interests in property subject to U.S. jurisdiction of these persons and these vessels are blocked, and U.S. persons are generally prohibited from engaging in transactions with them.

DATES: See Supplementary Information section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's Web site (www.treasury.gov/ofac).

Notice of OFAC Action(s)

On November 21, 2017, OFAC determined that the property and interests in property subject to U.S. jurisdiction of the following persons and the following vessels subject to U.S. jurisdiction are blocked pursuant to the relevant sanctions authorities listed below. Dealings in property subject to U.S. jurisdiction in which a person identified as Government of North Korea has an interest are prohibited effective as of the date of that status, which may be earlier than the date of OFAC's determination.

Individuals

1. SUN, Sidong, Liaoning, China; DOB 11 May 1976; POB Dandong, China; Gender Male; Passport G55296890 (China) issued 15 Sep 2011 expires 14 Sep 2021; National ID No. 210623197605112215 (individual) [DPRK4].

Designated pursuant to Section 1(a)(vi) of Executive Order 13810 of September 20, 2017, “Imposing Additional Sanctions With Respect to North Korea” (Executive Order 13810) for being owned, or controlled by, or having acted or purported to act for or on behalf of, directly or indirectly, DANDONG DONGYUAN INDUSTRIAL CO, LTD., an entity whose property and interests in property are blocked pursuant to E.O. 13810.

Entities

1. KOREA SOUTH-SOUTH COOPERATION CORPORATION (a.k.a. NAM NAM GENERAL CORPORATION; a.k.a. NAM-NAM (SOUTH-SOUTH) COOPERATIVE GENERAL COMPANY), Central District, Pyongyang, Korea, North; China; Russia; Poland [DPRK3].

Designated pursuant to Section 2(a)(iv) of Executive Order 13722 of March 15, 2008, “Blocking Property of the Government of North Korea and the Workers' Party of Korea, and Prohibiting Certain Transactions With Respect to North Korea” (Executive Order 13722) for having engaged in, facilitated, or been responsible for the exportation of workers from North Korea, including exportation to generate revenue for the Government of North Korea or the Worker's Party of Korea.

2. MARITIME ADMINISTRATION OF THE DEMOCRATIC PEOPLE'S REPUBLIC OF KOREA (a.k.a. MARITIME ADMINISTRATION BUREAU), Pyongyang, Korea, North [DPRK3].

Identified as meeting the definition of the Government of North Korea as set forth in Section 9(d) of Executive Order 13722 because it is an agency, instrumentality, or controlled entity of the Government of North Korea.

3. MINISTRY OF LAND AND MARITIME TRANSPORTATION OF THE DEMOCRATIC PEOPLE'S REPUBLIC OF KOREA (a.k.a. MINISTRY OF LAND AND MARINE TRANSPORT), Korea, North [DPRK3].

Identified as meeting the definition of the Government of North Korea as set forth in Section 9(d) of Executive Order 13722 because it is an agency, instrumentality, or controlled entity of the Government of North Korea.

4. DANDONG DONGYUAN INDUSTRIAL CO., LTD. (a.k.a. DANDONG DONGYUAN INDUSTRIAL CO.; a.k.a. DANDONG DONGYUAN INDUSTRY CO., LTD.), No. 34-7, Zhenba Street, Zhenxing District, Dandong 118001, China; Rm 3002 No 99 3 1 Binjiang Middle Rd, Zhenxing District, Dandong, China; D-U-N-S Number 542957624 [DPRK4].

Designated pursuant to Section 1(a)(iii) of Executive Order 13810 for having engaged in at least one significant importation from or exportation to North Korea of any goods, services, or technology.

5. KOREA KUMBYOL TRADING COMPANY (a.k.a. KUMBYOL TRADING; a.k.a. KUMBYOL TRADING COMPANY OF NORTH KOREAN WORKERS' PARTY), Pyongyang, Korea, North [DPRK4].

Designated pursuant to Section 1(a)(i) of Executive Order 13810 for operating in the transportation industry in North Korea.

Also designated pursuant to Section 1(a)(iii) of Executive Order 13810 for having engaged in at least one significant importation from or exportation to North Korea of any goods, services, or technology.

6. YUSONG SHIPPING CO, Uiam-dong, Taedonggang-guyok, Pyongyang, Korea, North; Nationality of Registration Korea, North; Company Number 5146578 [DPRK4].

Designated pursuant to Section 1(a)(i) of Executive Order 13810 for operating in the transportation industry in North Korea.

7. DAWN MARINE MANAGEMENT CO LTD, Changgyong 2-dong, Sosong-guyok, Pyongyang, Korea, North; Nationality of Registration Korea, North; Company Number 5926921 [DPRK4].

Designated pursuant to Section 1(a)(i) of Executive Order 13810 for operating in the transportation industry in North Korea.

8. KOREA DAEBONG SHIPPING CO, Ansan 1-dong, Pyongchon-guyok, Pyongyang, Korea, North; Nationality of Registration Korea, North; Company Number 5145243 [DPRK4].

Designated pursuant to Section 1(a)(i) of Executive Order 13810 for operating in the transportation industry in North Korea.

9. KOREA RUNGRADO RYONGAK TRADING CO, Pulgunkori 2-dong, Potonggang-guyok, Pyongyang, Korea, North; Nationality of Registration Korea, North; Company Number 5787653 [DPRK4].

Designated pursuant to Section 1(a)(i) of Executive Order 13810 for operating in the transportation industry in North Korea.

10. KOREA RUNGRADO SHIPPING CO, Pulgunkori 1-dong, Potonggang-guyok, Pyongyang, Korea, North; Nationality of Registration Korea, North; Company Number 1414592 [DPRK4].

Designated pursuant to Section 1(a)(i) of Executive Order 13810 for operating in the transportation industry in North Korea.

11. DANDONG HONGDA TRADE CO. LTD., China; Room 301, No. 1 Building, Business & Tourist Section, Dandong, Liaoning, China [DPRK4].

Designated pursuant to Section 1(a)(iii) of Executive Order 13810 for having engaged in at least one significant importation from or exportation to North Korea of any goods, services, or technology.

12. DANDONG XIANGHE TRADING CO., LTD. (a.k.a. DANDONG XIANGHE TRADING CORPORATION; a.k.a. DANDONG XIANGHE TRADING LTD. CO; a.k.a. XIANGHE TRADE CO., LTD.), China; No. 603, 2F, Jiadi Square, Developing Zone, Dandong, Liaoning, China; Beida Rd., Pingxiang City, Chongzuo, Guangxi 532600, China; Room 703, No. 7 Building, Fangba, Yanjiang Development Zone, Dandong, China [DPRK4].

Designated pursuant to Section 1(a)(iii) of Executive Order 13810 for having engaged in at least one significant importation from or exportation to North Korea of any goods, services, or technology.

13. DANDONG KEHUA ECONOMY & TRADE CO., LTD. (a.k.a. DANDONG KEHUA ECONOMIC AND TRADE CO. LTD.), China; Room 102, 1/F, Antai Garden, Zhengxing District, Dandong, Liaoning 118000, China [DPRK4].

Designated pursuant to Section 1(a)(iii) of Executive Order 13810 for having engaged in at least one significant importation from or exportation to North Korea of any goods, services, or technology.

Vessels

1. KU BONG RYONG Democratic People's Republic of Korea flag; Vessel Registration Identification IMO 8983404 (vessel) [DPRK4] (Linked To: KOREA KUMBYOL TRADING COMPANY).

Identified pursuant to Executive Order 13810 of September 20, 2017, “Imposing Additional Sanctions With Respect to North Korea” (E.O. 13810) as property in which KOREA KUMBYOL TRADING COMPANY, an entity whose property and interests in property are blocked pursuant to E.O. 13810, has an interest.

2. SO BAEK SAN Democratic People's Republic of Korea flag; Vessel Registration Identification IMO 8658267 (vessel) [DPRK4] (Linked To: KOREA KUMBYOL TRADING COMPANY).

Identified pursuant to E.O. 13810E.O. 13810 as property in which KOREA KUMBYOL TRADING COMPANY, an entity whose property and interests in property are blocked pursuant to E.O. 13810, has an interest.

3. RYE SONG GANG 1 Democratic People's Republic of Korea flag; Vessel Registration Identification IMO 7389704 (vessel) [DPRK4] (Linked To: KOREA KUMBYOL TRADING COMPANY).

Identified pursuant to E.O. 13810 as property in which KOREA KUMBYOL TRADING COMPANY, an entity whose property and interests in property are blocked pursuant to E.O. 13810, has an interest.

4. KANG SONG 1 Democratic People's Republic of Korea flag; Vessel Registration Identification IMO 6908096 (vessel) [DPRK4] (Linked To: KOREA KUMBYOL TRADING COMPANY).

Identified pursuant to E.O. 13810 as property in which KOREA KUMBYOL TRADING COMPANY, an entity whose property and interests in property are blocked pursuant to E.O. 13810, has an interest.

5. ZA RYOK 2 Democratic People's Republic of Korea flag; Vessel Registration Identification IMO 8898738 (vessel) [DPRK4] (Linked To: YUSONG SHIPPING CO).

Identified pursuant to E.O. 13810 as property in which YUSONG SHIPPING CO, an entity whose property and interests in property are blocked pursuant to E.O. 13810, has an interest.

6. KUM SONG 5 Democratic People's Republic of Korea flag; Vessel Registration Identification IMO 8661719 (vessel) [DPRK4] (Linked To: DAWN MARINE MANAGEMENT CO LTD).

Identified pursuant to E.O. 13810 as property in which DAWN MARINE MANAGEMENT CO LTD, an entity whose property and interests in property are blocked pursuant to E.O. 13810, has an interest.

7. WON SAN 2 Democratic People's Republic of Korea flag; Vessel Registration Identification IMO 9159787 (vessel) [DPRK4] (Linked To: YUSONG SHIPPING CO).

Identified pursuant to E.O. 13810 as property in which YUSONG SHIPPING CO, an entity whose property and interests in property are blocked pursuant to E.O. 13810, has an interest.

8. KUM SONG 3 Democratic People's Republic of Korea flag; Vessel Registration Identification IMO 8661850 (vessel) [DPRK4] (Linked To: DAWN MARINE MANAGEMENT CO LTD).

Identified pursuant to E.O. 13810 as property in which DAWN MARINE MANAGEMENT CO LTD, an entity whose property and interests in property are blocked pursuant to E.O. 13810, has an interest.

9. 7-28 Democratic People's Republic of Korea flag; Vessel Registration Identification IMO 8898831 (vessel) [DPRK4] (Linked To: YUSONG SHIPPING CO).

Identified pursuant to E.O. 13810 as property in which YUSONG SHIPPING CO, an entity whose property and interests in property are blocked pursuant to E.O. 13810, has an interest.

10. YU SONG 7 Democratic People's Republic of Korea flag; Vessel Registration Identification IMO 8400854 (vessel) [DPRK4] (Linked To: YUSONG SHIPPING CO).

Identified pursuant to E.O. 13810 as property in which YUSONG SHIPPING CO, an entity whose property and interests in property are blocked pursuant to E.O. 13810, has an interest.

11. JANG GYONG Democratic People's Republic of Korea flag; Vessel Registration Identification IMO 8203933 (vessel) [DPRK4] (Linked To: DAWN MARINE MANAGEMENT CO LTD).

Identified pursuant to E.O. 13810 as property in which DAWN MARINE MANAGEMENT CO LTD, an entity whose property and interests in property are blocked pursuant to E.O. 13810, has an interest.

12. YU SONG 12 Democratic People's Republic of Korea flag; Vessel Registration Identification IMO 9096791 (vessel) [DPRK4] (Linked To: YUSONG SHIPPING CO).

Identified pursuant to E.O. 13810 as property in which YUSONG SHIPPING CO, an entity whose property and interests in property are blocked pursuant to E.O. 13810, has an interest.

13. KUM UN SAN 3 Democratic People's Republic of Korea flag; Vessel Registration Identification IMO 8705539 (vessel) [DPRK4] (Linked To: DAWN MARINE MANAGEMENT CO LTD).

Identified pursuant to E.O. 13810 as property in which DAWN MARINE MANAGEMENT CO LTD, an entity whose property and interests in property are blocked pursuant to E.O. 13810, has an interest.

14. RAK RANG Democratic People's Republic of Korea flag; Vessel Registration Identification IMO 7506118 (vessel) [DPRK4] (Linked To: KOREA DAEBONG SHIPPING CO).

Identified pursuant to E.O. 13810 as property in which KOREA DAEBONG SHIPPING CO, an entity whose property and interests in property are blocked pursuant to E.O. 13810, has an interest.

15. PU HUNG 1 Democratic People's Republic of Korea flag; Vessel Registration Identification IMO 8703933 (vessel) [DPRK4] (Linked To: KOREA RUNGRADO SHIPPING CO).

Identified pursuant to E.O. 13810 as property in which KOREA RUNGRADO SHIPPING CO, an entity whose property and interests in property are blocked pursuant to E.O. 13810, has an interest.

16. RUNG RA DO Democratic People's Republic of Korea flag; Vessel Registration Identification IMO 8989795 (vessel) [DPRK4] (Linked To: KOREA RUNGRADO SHIPPING CO).

Identified pursuant to E.O. 13810 as property in which KOREA RUNGRADO SHIPPING CO, an entity whose property and interests in property are blocked pursuant to E.O. 13810, has an interest.

17. YANG GAK DO Democratic People's Republic of Korea flag; Vessel Registration Identification IMO 6401828 (vessel) [DPRK4] (Linked To: KOREA RUNGRADO SHIPPING CO).

Identified pursuant to E.O. 13810 as property in which KOREA RUNGRADO SHIPPING CO, an entity whose property and interests in property are blocked pursuant to E.O. 13810, has an interest.

18. RUNG RA 1 Democratic People's Republic of Korea flag; Vessel Registration Identification IMO 8713457 (vessel) [DPRK4] (Linked To: KOREA RUNGRADO RYONGAK TRADING CO).

Identified pursuant to E.O. 13810 as property in which KOREA RUNGRADO RYONGAK TRADING CO, an entity whose property and interests in property are blocked pursuant to E.O. 13810, has an interest.

19. RUNG RA 2 Democratic People's Republic of Korea flag; Vessel Registration Identification IMO 9020534 (vessel) [DPRK4] (Linked To: KOREA RUNGRADO RYONGAK TRADING CO).

Identified pursuant to E.O. 13810 as property in which KOREA RUNGRADO RYONGAK TRADING CO, an entity whose property and interests in property are blocked pursuant to E.O. 13810, has an interest.

20. KUM SONG 7 Democratic People's Republic of Korea flag; Vessel Registration Identification IMO 8739396 (vessel) [DPRK4] (Linked To: DAWN MARINE MANAGEMENT CO LTD).

Identified pursuant to E.O. 13810 as property in which DAWN MARINE MANAGEMENT CO LTD, an entity whose property and interests in property are blocked pursuant to E.O. 13810, has an interest.

Dated: November 22, 2017.
John E. Smith,
Director, Office of Foreign Assets Control.

[FR Doc. 2017-25637 Filed 11-27-17; 8:45 am]

BILLING CODE 4810-AL-P